NUCLEAR REGULATORY COMMISSION

[Docket Nos. 50-461, 50-219, and 50-289]

Amergen Energy Company, LLC, Clinton Power Station, Unit 1, Oyster Creek Nuclear Generating Station, Three Mile Island Nuclear Station, Unit 1; Correction to Notice of Consideration of Approval of Application Regarding Proposed Corporate Restructuring and Opportunity for a Hearing

On August 31, 2000, the Federal Register published a notice of consideration of issuance of an order under 10 CFR 50.80 approving the indirect transfer of Facility Operating Licenses Nos. NPF-62 for Clinton Power Station, Unit 1; DPR-16 for the Oyster Creek Nuclear Generating Station; and DPR-50 for the Three Mile Island Nuclear Station, Unit 1, held by AmerGen Energy Company, LLC (AmerGen or the licensee), as the owner and licensed operator. On pages 53036, column 1; 53035, column 1; and 53037, column 1, the following sentence is corrected to read: “By September 20, 2000, any person whose interest may be affected by the Commission's action on the application may request a hearing and, if not the applicant, may petition for leave to intervene in a hearing proceeding on the Commission's action.”

Dated at Rockville, Maryland, this 8th day of September 2000.
For the Nuclear Regulatory Commission.
Donna M. Skay,
Project Manager, Section 2, Project Directorate III, Division of Licensing Project Management, Office of Nuclear Reactor Regulation.

[FR Doc. 00-23607 Filed 9-13-00; 8:45 am]

BILLING CODE 7590-01-P